NATIONAL AERONAUTICS AND SPACE ADMINISTRATION

[Notice 04-100]

Notice of Prospective Patent Application License

AGENCY: National Aeronautics and Space Administration.

ACTION: Notice of Prospective Patent Application License.

SUMMARY: NASA hereby gives notice that NanoConduction Inc., of Los Gatos, CA has applied for an exclusive license to practice the inventions disclosed in a filed U.S. Patent Application No. 10/825,795, NASA Case No. ARC-15173-1, entitled “Nanoengineered Thermal Materials Using Carbon Nanotube Array Composites,” which is assigned to the United States of America as represented by the Administrator of the National Aeronautics and Space Administration. Written objections to the prospective grant of a license should be sent to Ames Research Center.

DATES: Responses to this notice must be received by August 31, 2004.

FOR FURTHER INFORMATION CONTACT: Robert Padilla, Chief Patent Counsel, NASA Ames Research Center, M/S 202A-4, Moffett Field, CA 94035-1000, (650) 604-5104.

Dated: July 27, 2004.
Keith T. Sefton,
Deputy General Counsel, Administration and Management.

[FR Doc. 04-18598 Filed 8-13-04; 8:45 am]

BILLING CODE 7510-01-P